FEDERAL ELECTION COMMISSION

Sunshine Act Meeting

AGENCY: Federal Election Commission.

DATE AND TIME: Tuesday, September 12, 2017 at 10:00 a.m. and its Continuation at the Conclusion of the Open Meeting on September 14, 2017

PLACE: 999 E Street NW., Washington, DC

STATUS: This Meeting Will Be Closed to the Public.

ITEMS TO BE DISCUSSED: Compliance matters pursuant to 52 U.S.C. 30109.

Information the premature disclosure of which would be likely to have a considerable adverse effect on the implementation of a proposed Commission action.

Matters concerning participation in civil actions or proceedings or arbitration.

* * * * *

PERSON TO CONTACT FOR INFORMATION: Judith Ingram, Press Officer, Telephone: (202) 694-1220

Laura E. Sinram,
Acting Deputy Secretary of the Commission.

[FR Doc. 2017-19091 Filed 9-5-17; 4:15 pm]

BILLING CODE 6715-01-P